DEPARTMENT OF THE INTERIOR

Fish and Wildlife Service

[FWS-R1-R-2012-N116; 12560-0000-10137 S3]

Bandon Marsh, Nestucca Bay, and Siletz Bay National Wildlife Refuges, Coos, Tillamook, and Lincoln Counties, OR; Comprehensive Conservation Plans and Environmental Assessments

AGENCY: Fish and Wildlife Service, Interior.

ACTION: Notice of availability; request for comments.

SUMMARY: We, the U.S. Fish and Wildlife Service (Service), announce the availability of the draft comprehensive conservation plans and environmental assessments (Draft CCP/EAs) for three Oregon refuges—Bandon Marsh, Nestucca Bay, and Siletz Bay National Wildlife Refuges (NWRs)—for public review and comment. Each refuge's Draft CCP/EA describes our proposal for managing that refuge for the 15 years following approval of the final CCP.

DATES: To ensure consideration, please send your written comments by October 22, 2012.

ADDRESSES: You may submit comments or requests for copies or more information by any of the following methods. You may request printed copies or a CD-ROM of the documents.

Email: oregoncoastCCP@fws.gov. Include “Bandon Marsh, Nestucca Bay, and Siletz Bay draft CCP and EA” in the subject line of the message.

Fax: Attn: Project Leader, 541-867-4551.

U.S. Mail: Oregon Coast National Wildlife Refuge Complex, 2127 SE Marine Science Drive, Newport, OR 97365.

In-Person Drop-off, Viewing, or Pickup: Call 541-867-4550 to make an appointment (necessary for viewing/pickup only) during regular business hours at the above address. For more information on locations for viewing or obtaining documents, see “Public Availability of Documents” under SUPPLEMENTARY INFORMATION.

Web site: http://www.fws.gov/oregoncoast/ccp_nes_slz_bdm.htm.

FOR FURTHER INFORMATION CONTACT: Roy W. Lowe, Project Leader, Oregon Coast National Wildlife Refuge Complex, 2127 SE Marine Science Drive, Newport, OR 97365; phone (541) 867-4550 and fax (541) 867-4551.

SUPPLEMENTARY INFORMATION:

Introduction

With this notice, we continue the CCP process for Bandon Marsh, Nestucca Bay, and Siletz Bay National Wildlife Refuges in Coos, Tillamook, and Lincoln Counties, Oregon, respectively. We started this process through a notice in the Federal Register (75 FR 73121; November 29, 2010).

Bandon Marsh, Nestucca Bay, and Siletz Bay National Wildlife Refuges

Bandon Marsh NWR was established in 1983, with the acquisition of 289 acres of salt marsh, mudflats, and tidal sloughs. The Bandon Marsh Unit is located near the mouth of the Coquille River, with approximately 25 percent of the Unit within the city limits of Bandon, Oregon. The 582-acre Ni-les'tun Unit, established in 2000, is located on the east side of Highway 101 on the north bank of the Coquille River. A tidal marsh restoration project, completed in summer 2011 at the Ni-les'tun Unit, restored 418 acres of historic tidal wetlands within the lower Coquille River estuary. The total land base of Bandon Marsh NWR is 889 acres.

The purpose for establishing Bandon Marsh NWR was “for the preservation and enhancement of the highly significant wildlife habitat of the area known as Bandon Marsh, in the estuary of the Coquille River * * * for the protection of migratory waterfowl, numerous species of shorebirds, and fish, including Chinook and silver salmon, and to provide opportunity for wildlife-oriented recreation and nature study on the marsh * * *” (95 Stat. 1709, dated Dec 29, 1981). The Ni- les'tun Unit was added to Bandon Marsh NWR in order to (1) Protect and restore intertidal marsh, freshwater marsh, and riparian areas to provide a diversity of habitats for migratory birds, including waterfowl, shorebirds, wading birds, and songbirds; (2) restore intertidal marsh habitat for anadromous fish such as the threatened coho salmon, chinook, chum salmon, steelhead, and cutthroat trout; (3) protect and restore habitat for species listed under the Endangered Species Act as threatened or endangered; and (4) provide wildlife-dependent public use opportunities compatible with refuge purposes.

Nestucca Bay NWR is located near Pacific City and Neskowin in Tillamook County, Oregon. The refuge was established in 1991 with the acquisition of a 370-acre dairy farm, and has since expanded to 1,010 acres. The primary need for establishing Nestucca Bay NWR was to protect high-quality coastal habitats for dusky Canada geese and threatened Aleutian Canada geese (delisted in 2001); other endangered and threatened species; and a variety of other migratory waterfowl, shorebirds, raptors, songbirds, anadromous fish, and other wildlife while preserving part of Oregon's biodiversity. In 2001, the refuge was expanded to include the Neskowin Marsh Unit (228 acres acquired), located about 2.5 miles south of the Nestucca Bay Refuge Unit near the community of Neskowin, Oregon. The Neskowin Marsh Unit incorporates unique freshwater wetland and bog habitats and wildlife resources not found within the initial refuge boundary.

Siletz Bay NWR is located near Lincoln City on the central coast of Oregon. The refuge was established in 1991 with a donation of 40 acres of tidally muted salt marsh. The approved acquisition refuge boundary totals 1,936 acres and encompasses the northern tip of the Siletz spit, vegetated and unvegetated tidelands of the bay, a portion of the diked former tidelands of the Siletz River floodplain, and forested headlands near the mouth of Schooner Creek and Drift Creek. Approximately 1,060 acres within the authorized boundary are State-owned tidelands. Currently, refuge lands total 568 acres. The primary need for establishing this refuge was to protect coastal wetland habitats and upland buffers for a variety of waterfowl, shorebirds, marine mammals, endangered species, raptors, songbirds, fish, and other wildlife. The refuge serves to protect the remaining coastal wetlands and uplands adjacent to Siletz Bay from rapidly encroaching development, and management emphasis has been to enhance and restore wetland and upland habitats for a variety of estuarine-dependent fish and wildlife species.

Background

The CCP Process

The National Wildlife Refuge System Administration Act of 1966, 16 U.S.C. 668dd-668ee (Refuge Administration Act), as amended by the National Wildlife Refuge System Improvement Act of 1997, 111 Stat. 1254, requires us to develop a CCP for each national wildlife refuge. The purpose for developing a CCP is to provide refuge managers with a 15-year plan for achieving refuge purposes and contributing toward the mission of the National Wildlife Refuge System, consistent with sound principles of fish and wildlife management, conservation, the National Environmental Policy Act (NEPA), legal mandates, and our policies. In addition to outlining broad management direction on conserving wildlife and their habitats, CCPs identify compatible wildlife-dependent recreational opportunities available to the public, including opportunities for hunting, fishing, wildlife observation and photography, and environmental education and interpretation. We will review and update each CCP at least every 15 years in accordance with the Refuge Administration Act. Implementing a CCP is subject to the availability of funding and any additional compliance requirements.

Public Outreach

We began public outreach by publishing a notice of intent in the Federal Register (75 FR 73121; November 29, 2010) announcing our intent to complete a CCP and EA for each of the refuges and inviting public comments. In November 2010, we distributed Planning Update 1 to our mailing list and public outlets. On November 29 and 30 and December 2, 2010, we held public scoping meetings in Lincoln City, Pacific City, and Bandon, Oregon, respectively, to meet with the public and identify issues for evaluation. The meetings were announced through local media outlets, on the refuges' Web sites, and in Planning Update 1. Some scoping comments we received were about broad or long-range issues, while others suggested very specific or detailed strategies that could be used to achieve biological or public use objectives. Most of the comments suggested changes or additions to the refuges' public use programs; some examples were adding new areas where wildlife observation and photography could be allowed, establishing waterfowl hunting and fishing programs where none exist, expanding interpretation and environmental education programs, or partnering with local and State agencies and community groups that share common goals for the refuges' natural resources.

We reviewed and evaluated the potential issues, management concerns, and opportunities that we, our partners, and the public identified during scoping. We used this information to define the significant issues to be addressed in the CCP/EA for each refuge. Preliminary draft alternatives were then developed to address these issues and meet the goals and objectives of each refuge. In November 2011, we distributed Planning Update 2, which included a summary of the scoping comments we received, a summary of our preliminary draft alternatives, a planning schedule, notice of three public open house meetings, and information on how and where to comment. On November 9, 10, and 16, 2011, we held public open house meetings in Lincoln City, Pacific City, and Bandon, Oregon, respectively, to meet with the public and solicit comments on our preliminary draft alternatives. Comments we received have been considered and evaluated, with many incorporated into the various alternatives addressed in each draft CCP/EA.

To better address issues raised regarding our Bandon Marsh NWR boundary expansion study, we decided in February 2012 to conduct our Land Protection Planning (LPP) process separately from the CCP. Separating the LPP process from the CCP process will allow us to more readily meet our CCP completion schedule, and focus more attention on evaluating potential environmental, recreational, and socio-economic benefits and impacts of our LPP alternatives, and respond to public concerns.

Alternatives We Are Considering for Each Draft CCP/EA

During the public scoping process with which we started work on these draft CCPs, we, other governmental partners, Tribes, and the public raised several issues. Our draft CCPs address these issues. A full description of each alternative is in the EA for each refuge. To address these issues, we developed and evaluated the following alternatives, briefly summarized below:

Bandon Marsh NWR

Alternative A: No Action

Under Alternative A, the refuge would continue with current management, which focuses on protecting and maintaining habitats in their current condition. Existing invasive species control and monitoring programs would continue. Public use would remain limited to wildlife observation and photography, interpretation and environmental education, hunting, and fishing allowed on the Bandon Marsh Unit. The only public uses on the Ni-les'tun Unit would be wildlife observation, photography, and interpretation from the observation deck and associated gravel trail, with no public entry into the remainder of the unit. Existing structures would be maintained and the refuge would continue to seek funding to replace or rehabilitate the Smith Tract structures.

Alternative B: Enhanced Active Habitat Management and Restoration

This alternative would continue the activities in Alternative A; however, Alternative B would expand the level of active habitat management and restoration. Approximately 29 acres of grasslands (former pastures) and 11 acres of forested wetlands would be restored. Monitoring programs would be expanded. Wildlife observation and photography would continue 7 days per week on the Bandon Marsh Unit, and would be allowed daily during the non-waterfowl hunting season on a portion of the Ni-les'tun Unit. The waterfowl hunting program, which currently allows hunting on 256 acres of Bandon Marsh Unit 7 days per week, would expand to also allow hunting on 300 acres of the Ni-les'tun Unit 7 days per week. With regard to facilities and structures, the Service would focus on participation in partner- and community-based visitor information projects.

Alternative C: Enhanced Active Habitat Management and Restoration and Visitor Services (Preferred Alternative)

All additional active habitat management, monitoring, and restoration activities included in Alternative B are also included in this alternative. A portion of the Ni-les'tun Unit would be open to wildlife observation and photography daily during the non-waterfowl hunting season. In addition to the existing waterfowl hunting program on the Bandon Marsh Unit, hunting would be allowed on 300 acres of the Ni-les'tun Unit 3 days per week. Fishing for cutthroat trout would be permitted in Redd, No Name, and Fahys Creeks south of North Bank Lane, in accordance with state regulations but with an additional refuge regulation of artificial lures or flies only. The start of the season would coincide with the Oregon Department of Fish and Wildlife's season for trout fishing; however, the season on the refuge would end on September 30 to avoid conflicts with the waterfowl hunting season. Additional trails and parking lots would be constructed. Some administrative and visitor facilities would be replaced. Off-refuge, the Service would participate in partner- and community eco-tourism or natural resource-based visitor centers.

Nestucca Bay NWR

Alternative A: No Action

Under Alternative A, the refuge would continue with current management, which focuses on protecting and maintaining habitats in their current condition and taking advantage of opportunities to restore or enhance some habitats. Existing invasive species control and monitoring programs would continue. The 346 acres of lowland pastures would continue to be managed by cooperative farmers, and the upland grasslands would be occasionally mowed and silaged, with small areas enhanced with native prairie and Oregon silverspot butterfly habitat plant species when possible. Public use would remain limited to the wildlife observation, photography, interpretation, and minimal environmental education programs offered at Cannery Hill. A trail and observation deck would also be constructed. Existing structures would remain in place and the refuge would continue to seek funding to replace the deteriorating volunteer residence with a bunkhouse through the standard funding process.

Alternative B: Enhanced Active Habitat Management and Monitoring

This alternative would continue many of the activities in Alternative A, but would also include more active habitat management and monitoring activities. The tsunami evacuation route through Neskowin Marsh would remain open and, following a hydrological study, redesigned to improve hydrology and accessibility. Some lowland pastures would be restored to tidal marsh habitat and the remainder would continue to be managed for wintering goose forage through cooperative farming agreements. Approximately 25 acres of former coastal prairie on Cannery Hill would be fully restored, and some active forest management techniques would be employed along with invasive species management. Public use changes include the construction of new trails and an observation deck, allowing seasonal public access on a portion of the Little Nestucca Restoration area, and allowing public access on Brooten Marsh. A waterfowl hunting program would be established on 108 acres at Brooten Marsh, 33 acres at the mouth of the Little Nestucca River, and 82 acres at the Little Nestucca Restoration area. The Service would seek funding to build a refuge office with a visitor lobby under this alternative, as well as replacing the existing volunteer residence with a bunkhouse.

Alternative C (Preferred Alternative): Enhanced Active Habitat Management and Monitoring and Visitor Services

All lowland pastures would continue to be managed for wintering goose habitat through cooperative farming agreements. A hydrological study would be conducted and used to guide the future modification of the tsunami evacuation route through Neskowin Marsh to improve hydrology and accessibility. The Neskowin Marsh Unit would be proposed for designation as a Research Natural Area. The 25-acre full restoration of former coastal prairie on Cannery Hill would be focused on specific life-history parameters needed by the threatened Oregon silverspot butterfly, with the goal of introducing a nonessential experimental population once habitat parameters specified in the Oregon Silverspot Butterfly Recovery Plan are reached. An additional 14 acres of upland grassland would also be restored to coastal prairie. New trails and an observation deck would be constructed on Cannery Hill. The Little Nestucca Restoration area would gain a trail as well as graveled parking lots. Brooten Marsh would be opened to access for wildlife observation and photography year round. A waterfowl hunting program would be established on Brooten Marsh (108 acres) and the mouth of the Little Nestucca River (33 acres), and clamming access would be allowed through Brooten Marsh. To accommodate increasing visitation to the refuge, the current refuge volunteer residence would be replaced with a bunkhouse and small administrative office. The Service would also remodel the north bay of the maintenance shop to accommodate two offices: one for maintenance staff and a second for the refuge Friends Group.

Siletz Bay NWR

Alternative A: No Action

Under Alternative A, the refuge would continue with current management, which focuses on protecting and maintaining habitats in their current condition and contributing to restoration and enhancement of some habitats. Existing invasive species control and monitoring programs would continue. The Service would continue to work with private landowners and partners to acquire lands within the approved refuge boundary with the intention of restoring full tidal action to those properties. Partnerships would also continue to be cultivated for the restoration of tidal marsh on privately-owned and state-owned lands. Public use would remain limited to the interpreter-led, seasonal paddle trips through Millport Slough and the Siletz River.

Alternative B: Enhanced Active Habitat Management

Under Alternative B, more active habitat management activities would occur, such as inventory and management for late-successional forest and closer coordination with the Oregon Division of State Lands to monitor and treat invasive species. If feasible, tidal marsh restoration would occur at Siletz Keys and Alder Island, and on any additional diked lands acquired. Monitoring programs would be expanded. Proposed new public use opportunities include opening Alder Island to public access with development of a loop trail, viewing platform, parking lot, and boat launch. Unrestricted walking would also be allowed on lands south of Millport Slough. Walk-in bank fishing would be allowed from Alder Island and lands south of Millport Slough. A waterfowl hunting program would be established on 80 acres of refuge lands west of Highway 101 7 days per week, as well as on 225 acres of refuge lands north and south of Millport Slough and east of Highway 101 3 days per week.

Alternative C: Alternative B: Enhanced Active Habitat Management and Visitor Services (Preferred Alternative)

All additional habitat monitoring and management activities included in Alternative B are also included in this alternative. Interpreter-led seasonal paddle trips would continue and potentially expand with the development of the boat launch near Alder Island. A loop trail, viewing platform, and parking lot would be developed at Alder Island. Access to clamming would be allowed through Snag Alley and walk-in bank fishing would be allowed from Alder Island only. A waterfowl hunting program would be allowed daily in season on 80 acres of refuge lands west of Highway 101 and 3 days per week on 97 acres of refuge lands south of Millport Slough and east of Highway 101. A small gravel parking lot and kiosk would be developed to support the Millport Slough waterfowl hunting access.

Public Availability of Documents

In addition to any methods in ADDRESSES, you can view or obtain documents by calling the refuge complex at 541-867-4550 or visiting our Web site at http://www.fws.gov/oregoncoast/ccp_nes_slz_bdm.htm. Printed copies will be available for review at the following libraries:

• Bandon Public Library, 1204 11th St. SW., Bandon, OR 97411

• Coquille Public Library, 105 N. Birch St., Coquille, OR 97423

• Newport Public Library, 35 NW Nye St., Newport, OR 97365

• Driftwood Public Library, 801 SW Hwy 101 #201, Lincoln City, OR 97367

• Pacific City Public Library, 6200 Camp Street, Pacific City, OR 97135

• Tillamook County Library, 1716 3rd St., Tillamook, OR 97141

Submitting Comments/Issues for Comment

Public comments are requested, considered, and incorporated throughout the planning process. Comments on each Draft CCP/EA will be analyzed by the Service and addressed in the final planning documents. See ADDRESSES for how to submit comments.

Public Availability of Comments

Before including your address, phone number, email address, or other personal identifying information in your comment, you should be aware that your entire comment—including your personal identifying information—may be made publicly available at any time. While you can ask us in your comment to withhold your personal identifying information from public review, we cannot guarantee that we will be able to do so.

Dated: June 1, 2012.
Robyn Thorson,
Regional Director, Pacific Region, U.S. Fish and Wildlife Service.

[FR Doc. 2012-22960 Filed 9-14-12; 8:45 am]

BILLING CODE 4310-55-P